FEDERAL HOUSING FINANCE BOARD

12 CFR Chapter IX

[No. 2001-27]

RIN 3069-AB09

Multiple Federal Home Loan Bank Memberships

AGENCY: Federal Housing Finance Board.

ACTION: Solicitation of comments; extension of public comment period.

SUMMARY: On October 3, 2001, the Federal Housing Finance Board (Finance Board) published a solicitation of comments in the Federal Register (66 FR 50366 (October 3, 2001)) on the implications for the Federal Home Loan Bank System (FHLBank System) raised by the structural changes that have been occurring in its membership base. The solicitation was prompted by the submission of several petitions, each requesting that the Finance Board permit a single depository institution to become a member of two Federal Home Loan Banks concurrently. The petitions also raised a number of other broad issues affecting the FHLBank System.

The Finance Board has received a number of requests for an extension of the January 2, 2002 deadline for written comments on the solicitation. In order to provide interested parties ample opportunity to comment, the Finance Board is extending the comment period for the solicitation from January 2, 2002 to March 4, 2002.

DATES: The comment period on the solicitation is extended to March 4, 2002.

ADDRESSES: Comments should be mailed to: Elaine L. Baker, Secretary to the Board, Federal Housing Finance Board, 1777 F Street, NW., Washington, DC 20006, or to bakere@fhfb.gov. Comments will be available for public inspection at this address.

FOR FURTHER INFORMATION CONTACT: James L. Bothwell, Managing Director, (202) 408-2821; Scott L. Smith, Acting Director, (202) 408-2991, Office of Policy, Research and Analysis; Arnold Intrater, Acting General Counsel, (202) 408-2536, Neil R. Crowley, Deputy General Counsel, (202) 408-2990, or Sharon B. Like, Senior Attorney-Advisor, (202) 408-2930, Office of General Counsel, Federal Housing Finance Board, 1777 F Street, NW., Washington, DC 20006.

Dated: November 29, 2001.
By the Board of Director of the Federal Housing Finance Board.
J. Timothy O'Neill,
Chairman.

[FR Doc. 01-29978 Filed 12-3-01; 8:45 am]

BILLING CODE 6725-01-P